DEPARTMENT OF ENERGY

Federal Energy Regulatory Commission

Notice of Second Interstate Natural Gas Facility-Planning Seminar

October 27, 2000.

The Office of Energy Projects will hold the second in a series of public meetings around the country for the purposes of exploring and enhancing strategies for constructive public participation in the earliest stages of natural gas facility planning. This meeting will be held in Romeoville, Illinois on Thursday, December 7, 2000. We are inviting interstate natural gas companies; Federal, state and local agencies; landowners and non-governmental organizations with an interest in developing a new way of doing business to join us in this effort. We will discuss the facility planning process, not the merits of any pending or planned pipeline projects.

Join us as we continue to explore new strategies being employed by the natural gas industry, agencies, and citizens to learn about each others' concerns and to engage the public and agencies in participatory project design. Interactive discussions with panelists from various Federal and state agencies, representatives from natural gas companies, and private landowners or citizen representatives who have had relevant experiences will be held. There will be substantial opportunity for the sharing of experiences and knowledge during both the panel discussions and in the interactive “brainstorming” session. So, bring your ideas with you and prepare to share them. In addition, a summary of the first seminar in Albany, NY will be given by the staff of the Commission's Office of Energy Projects.

The objectives of the meetings are:

• Build upon the discussions from the first meeting in Albany, NY.

• To explore steps taken to identify the parties directly involved with and affected by natural gas facility siting and/or permitting, so they can work together and resolve issues.

• To explore the best avenues for involving people and agencies toward fostering settlements through creative issue resolution.

• To encourage the submission of filings with no or few contested issues in order to reduce the Commission's processing time.

We are building on what was learned at our Albany meeting and continuing to work towards developing a toolbox of the best available techniques for increasing public involvement in the pre-filing planning process. This will help to plan projects with less opposition that can achieve faster action from the Commission with less controversy and fewer conditions.

The meeting in Joliet, Illinois will be held at the Sancta Alberta Convocation Center at Lewis University, located in Romeoville, Illinois. The meeting is scheduled to start at 10:00 AM and finish at 4:00 PM. A preliminary agenda and directions to Lewis University are enclosed. Also, see attachment 2 regarding the selection of locations of future meetings.

If you plan to attend, please respond by November 22, 2000 via facsimile to Pennie Lewis-Partee at 202-208-0353, or you can email our team at: gasoutreach@ferc.fed.us. Please include in the response the names, addresses, and telephone numbers of all attendees from your organization. We will send acknowledgment of your request.

To help us enhance our panel discussions, please consider issues and/or questions you would like to have addressed at the meetings and email them to us. If you have any questions, you may contact any of the staff listed below:

Richard Hoffmann 202/208-0066

Lauren O'Donnell 202/208-0325

Jeff Shenot 202/219-2178

Howard Wheeler 202/208-2299

J. Mark Robinson,
Director, Division of Environmental & Engineering Review, Office of Energy Projects.

Appendix 1—Agenda

2nd Interstate Natural Gas Facility Planning Seminar

Federal Energy Regulatory Commission, Lewis University, Romeoville, Illinois, December 7, 2000, 10:00 am to 4:00 pm

10:00 Introductions

Welcome: Mark Robinson, Director, Division of Environmental & Engineering Review, Office of Energy Projects, FERC Rich Hoffmann, Office of Energy Projects, FERC

10:15 The Pipeline Planning/Approval Process

Where FERC fits in

Who's involved and when

10:30 Summary of Comments from the Albany Meeting

10:45 Panel 1. Perspectives on Initial Project Announcement and General Route Planning

[Discussion of factors surrounding announcement and general planning of the project route/sites & alternatives, types of surveys needed; who to tell and when. What are the needs of the various stakeholders?]

Howard Heffler, Alliance Pipeline Company

Marian Gibson, Administrator, Village of Channahon, Illinois (citizen)

Jim Hartwig, Office of Farmland Protection, Illinois Department of Agriculture

[10 minute discussion by each panelist with interactive Q&A session with panelists and audience for remainder of Panel]

11:45 Lunch

12:50 Panel 2. Perspectives on Detailed Pipeline Route Planning [Discussion of details of how landowners and agencies hear about facility locations; where disturbance would occur; aboveground facility sites, and alternatives? What timing and mitigation is involved? How best to be involved?]

Brian Smith, Chicago District, U.S. Corps of Engineers?

John Hopkins, ANR Pipeline Company

______, Citizen/NGO

[10 minute discussion by each panelist with interactive Q&A session with panelists and audience for remainder of Panel]

2:00 Discussion by Kearns & West, Inc. on Stakeholder Involvement

2:15 Brainstorming Session * * * OEP Staff will lead an all-participants discussion of issues regarding:

Pre-filing Best Management Practices (BMPs) from an Industry Perspective

• How best to work with landowners and communities.

Pre-filing BMPs from an Agency Perspective

• How best to work with applicants and agencies:

• How to coordinate with multiple agencies/jurisdictions.

Pre-filing BMPs from a Citizen Perspective

• How best to engage landowners;

• How to get information on the need for a project;

• How to describe workspace/right-of-way requirements.

3:45 Summary of the Day

DIRECTIONS TO LEWIS UNIVERSITY, Romeoville, IL:

• Lewis University is located on route 53 about 5 miles north of Joliet, IL.

• From the North, take I-55 to exit 267 (RT53). Take Route 53 south for approx. 8 miles to Lewis University on the right.

Appendix 2—Future Meetings?

By September of 2001, we will hold subsequent seminars at other locations around the country. Locations for the meetings will be selected based on the history of past, present and especially future pipeline projects where interstae natural gas markets are developing or expanding.

Areas we are considering for meetings include:

Tampa area, Florida—Jan/Feb, 2001

Boston, Massachusetts/Portland, Maine area—Mar/April, 2001

Seattle/Puget Sound Washington—____

or

Reno/Tahoe, Nevada or Salt Lake City, Utah—____or

Other—____.

If you care to voice your opinion about these or other areas, please follow the instructions for contacting us in the notice.

[FR Doc. 00-28256 Filed 11-2-00; 8:45 am]

BILLING CODE 6717-01-M